DEPARTMENT OF AGRICULTURE

Grain Inspection, Packers and Stockyards Administration

Amendment to Certification of Colorado's Central Filing System

AGENCY: Grain Inspection, Packers and Stockyards Administration, USDA.

ACTION: Notice.

SUMMARY: In response to a request from Colorado's Secretary of State we are approving amendments to the debtor identification and signature requirements of the certified central filing system for Colorado to permit the conversion of all debtor social security and taxpayer identification numbers into approved unique identifiers; and the filing of effective financing statements and amendments that are authorized or authenticated without signatures. The proposed specific procedure whereby Colorado will automatically convert social security numbers and taxpayer identification numbers into ten number unique identifiers has been reviewed and determined to permit the numerical searching of master lists while providing protection against identity theft.

DATES: Effective Date: August 8, 2007.

SUPPLEMENTARY INFORMATION: The Grain Inspection, Packers and Stockyards Administration (GIPSA) administers the Clear Title program for the Secretary of Agriculture. The Clear Title program is authorized by Section 1324 of the Food Security Act of 1985, which requires that States implementing central filing system for notification of liens on farm products must have such systems certified by the Secretary of Agriculture.

A listing of the states with certified central filing systems is available through the Internet on the GIPSA Web site (http://www.usda.gov/gipsa/). Farm products covered by a State's central filing system are also identified through the GIPSA Web site. The Colorado central filing system covers all farm products.

We originally certified the central filing system for Colorado on September 28, 1992. On March 30, 2007, Keith Whitelaw, Director, Business Division, Colorado Secretary of State's Office, requested the certification be amended to incorporate the use of an approved unique identifier other than a Social Security Number, in accordance with 2004 amendments to Section 1324 of the Food Security Act. On June 12, 2007, Mr. Whitelaw confirmed that Colorado's clear title forms, instructions and regulations had also been modified to indicate that signatures were optional when the filing of effective financing statements, and amendments thereto, is authorized or otherwise authenticated, in accordance with the 2002 amendments to Section 1324 of the Food Security Act.

This notice announces our approval of the amended certification for Colorado's central filing system. Details of the specific procedure by which Colorado will create approved unique identifiers are being provided by GIPSA to the Secretaries of State of other states with certified central filing systems. The statewide central filing system of Colorado is certified for all farm products produced in that state. Examples of farm products and possible entries for lien identification include: All field crops, all fruits, all livestock, all vegetables, angora, apples, apricots, artichokes, asparagus;

Barley, beefalo, broccoli, buffalo, cabbage, cantaloupe, carrots, cattle and calves, cauliflower, celery, cherries, chickens, corn, cotton (field or row crop), cucumbers;

Dry beans, ducks, eggplant, eggs, elk, emu, fish (specify), flax seed, fur-bearing animals (specify), geese, grapes, green beans, green peas;

Hay, hogs, honey, honeydew melon, horses, legumes, lettuce, llamas, milk, millet, mules, muskmelon;

Nectarines, oats, okra, onions, ostrich, other field crops (specify), other fruits (specify), other livestock (specify), other vegetables (specify);

Peaches, pears, pecans, peppers, pheasant, plums, popcorn, potatoes, pumpkins, quail, radishes, raspberries, rye;

Safflower, seed crops (specify), semen, sheep and lamb, silage, snap beans, sorghum grain, soybeans, squash, strawberries, sugar beets, sunflower seeds, sweet corn;

Tomatoes, trees (specify), triticale, turkeys, turnips, vetch, walnuts, watermelon, wheat, and wool.

Authority: 7 U.S.C. 1631, 7 CFR 2.22(a)(3)(v) and 2.81(a)(5), and 9 CFR 205.101(e).

James E. Link,
Administrator, Grain Inspection, Packers and Stockyards Administration.

[FR Doc. E7-15420 Filed 8-7-07; 8:45 am]

BILLING CODE 3410-EN-P